DEPARTMENT OF TRANSPORTATION

Federal Aviation Administration

14 CFR Part 39

[Docket No. FAA-2005-21087; Directorate Identifier 2005-NM-019-AD; Amendment 39-14280; AD 2005-19-15]

RIN 2120-AA64

Airworthiness Directives; BAE Systems (Operations) Limited (Jetstream) Model 4101 Airplanes

AGENCY: Federal Aviation Administration (FAA), Department of Transportation (DOT).

ACTION: Final rule.

SUMMARY: The FAA is superseding an existing airworthiness directive (AD), which applies to all BAE Systems (Operations) Limited (Jetstream) Model 4101 airplanes. That AD currently requires operators to determine the number of flight cycles accumulated on each component of the main landing gear (MLG) and the nose landing gear (NLG), and to replace each component that reaches its life limit with a serviceable component. The existing AD also requires operators to revise the Airworthiness Limitations section (ALS) of the Instructions for Continued Airworthiness in the aircraft maintenance manual to reflect the new life limits. This new AD requires revising the ALS to incorporate extended and more restrictive life limits for structurally significant items. This AD is prompted by engineering analysis of fleet operations which resulted in more restrictive life limits. We are issuing this AD to prevent failure of certain structurally significant items, including the MLG and the NLG, which could result in reduced structural integrity of the airplane.

DATES: This AD becomes effective October 26, 2005.

The Director of the Federal Register approved the incorporation by reference of a certain publication listed in the AD as of October 26, 2005.

On August 3, 2004 (69 FR 38816, June 29, 2004), the Director of the Federal Register approved the incorporation by reference of BAE Systems (Operations) Limited Service Bulletin J41-05-001, Revision 2, dated March 15, 2002; BAE Systems (Operations) Limited Service Bulletin J41-05-001, Revision 3, dated January 9, 2004; and BAE Systems (Operations) Limited Service Bulletin J41-32-078, dated April 12, 2002.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-21087; the directorate identifier for this docket is 2005-NM-019-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend part 39 of the Federal Aviation Regulations (14 CFR part 39) with an AD to supersede AD 2004-13-07, amendment 39-13689 (69 FR 38816, June 29, 2004). The existing AD applies to all BAE Systems (Operations) Limited (Jetstream) Model 4101 airplanes. The proposed AD was published in the Federal Register on May 2, 2005 (70 FR 22615), to continue to require operators to determine the number of flight cycles accumulated on each component of the main landing gear (MLG) and nose landing gear (NLG), and to replace each component that reaches its life limit with a serviceable component. That action also proposed to require operators to revise the Airworthiness Limitations section (ALS) of the Instructions for Continued Airworthiness in the airplane maintenance manual (AMM) to incorporate extended and more restrictive life limits for structurally significant items.

Comments

We provided the public the opportunity to participate in the development of this AD. We have considered the comment that has been submitted on the proposed AD. The commenter supports the proposed AD.

Explanation of Change to Applicability

We have revised the applicability of the proposed AD to identify model designations as published in the most recent type certificate data sheet for the affected models.

Explanation of Editorial Changes

We have corrected the date of Revision 3 of BAE Systems (Operations) Limited Service Bulletin J41-05-001 in paragraph (f) of this AD, and the British airworthiness directive reference in paragraph (n) of this AD.

Conclusion

We have carefully reviewed the available data, including the comment that has been received, and determined that air safety and the public interest require adopting the AD with the changes described previously. We have determined that these changes will neither increase the economic burden on any operator nor increase the scope of the AD.

Costs of Compliance

This AD will affect about 57 airplanes of U.S. registry.

For the actions that are required by AD 2004-13-07, and retained in this AD, it will take approximately 1 work hour per airplane to accomplish the required determination of the number of flight cycles, and 1 work hour per airplane to accomplish the required revision of the AMM. The average labor rate is $65 per work hour. Based on these figures, the estimated cost of the currently required actions for U.S. operators is $7,410, or $130 per airplane.

The new revision of the AMM will take about 1 work hour per airplane, at an average labor rate of $65 per work hour. Based on these figures, the estimated cost of the new AMM revision specified in this AD for U.S. operators is $3,705, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13689 (69 FR 38816, June 29, 2004) and by adding the following new airworthiness directive (AD):

2005-19-15 BAE Systems (Operations) Limited (Formerly British Aerospace Regional Aircraft): Amendment 39-14280. Docket No. FAA-2005-21087; Directorate Identifier 2005-NM-019-AD.

Effective Date

(a) This AD becomes effective October 26, 2005.

Affected ADs

(b) This AD supersedes AD 2004-13-07.

Applicability

(c) This AD applies to all BAE Systems (Operations) Limited Model Jetstream 4101 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m) of this AD. The request should include a description of changes to the required inspections that will ensure the continued damage tolerance of the affected structure. The FAA has provided guidance for this determination in Advisory Circular (AC) 25-1529.

Unsafe Condition

(d) This AD was prompted by engineering analysis of fleet operations which resulted in more restrictive life limits. We are issuing this AD to prevent failure of certain structurally significant items, including the main landing gear and the nose landing gear, which could result in reduced structural integrity of the airplane.

Compliance

(e) You are responsible for having the actions required by this AD performed within the compliance times specified, unless the actions have already been done.

Restatement of Requirements of AD 2004-13-07

Determine Flight Cycles for Components

(f) Within 90 days after August 3, 2004 (the effective date of AD 2004-13-07): Determine the number of flight cycles accumulated on each landing gear component listed in Table 1 and Table 2 of the Accomplishment Instructions of BAE Systems (Operations) Limited Service Bulletin J41-32-078, dated April 12, 2002. If there are no records or incomplete records for any component, establish the number of flight cycles in accordance with the Accomplishment Instructions of BAE Systems (Operations) Limited Service Bulletin J41-05-001, Revision 2, dated March 15, 2002; or Revision 3, dated January 9, 2004.

Note 2: BAE Systems (Operations) Limited Service Bulletin J41-32-078 refers to BAE Systems (Operations) J41 Service Information Leaflet 32-15, Issue 1, dated February 15, 2002, as an additional source of service information for establishing the life limits of landing gear components and for tracking the accumulated life of each component.

Replace Components

(g) Except as provided by paragraph (h) of this AD, within 60 days after establishing the flight cycles per paragraph (f) of this AD: Replace any landing gear component that has reached the life limit determined by paragraph (f) of this AD, with a serviceable component per a method approved by either the Manager, International Branch, ANM-116, Transport Airplane Directorate, FAA; or the Civil Aviation Authority (CAA) (or its delegated agent). Doing the actions in chapter 32 of the Jetstream 4100 airplane maintenance manual (AMM) is one approved method. Thereafter, replace any component that reaches its life limit prior to the accumulation of the applicable number of flight cycles shown in Table 1 and Table 2 of the Accomplishment Instructions of BAE Systems (Operations) Limited Service Bulletin J41-32-078, dated April 12, 2002.

(h) Any component for which the total accumulated life cycles has not been established, or that has exceeded its life limit, but has not yet been replaced per paragraph (g) of this AD, must be replaced within 72 months after August 3, 2004, in accordance with BAE Systems (Operations) Limited Service Bulletin J41-32-078, dated April 12, 2002.

Revise AMM

(i) Within 30 days after August 3, 2004: Revise the Airworthiness Limitations section (ALS) of the Instructions for Continued Airworthiness of the Jetstream 4100 AMM to include the life limits of the components listed in Table 1 and Table 2 of the Accomplishment Instructions of BAE Systems (Operations) Limited Service Bulletin J41-32-078, dated April 12, 2002. This may be accomplished by inserting a copy of the service bulletin into the ALS of the Instructions for Continued Airworthiness until such time as a revision is issued. Thereafter, except as provided in paragraphs (m) and (l) of this AD, no alternative replacement times may be approved for any affected component. Once the AMM revision required by paragraph (l) of this AD is accomplished, the AMM revision required by this paragraph must be removed from the AMM.

Parts Installation

(j) As of August 3, 2004, no landing gear unit may be installed on any airplane unless the accumulated flight cycles of all components of that landing gear have been established per paragraph (f) of this AD, and any component that has exceeded its life limit has been replaced per paragraph (g) of this AD.

Actions Accomplished Per Previous Issue of Service Bulletin

(k) Calculations of total accumulated flight cycles accomplished per BAE Systems (Operations) Limited Service Bulletin J41-05-001, Revision 1, dated April 10, 2001; or BAE Systems (Operations) Limited Service Bulletin J41-05-001, Revision 2, dated March 15, 2002; are considered acceptable for compliance with the corresponding action specified in this AD.

New Requirements of This AD

Revise AMM

(l) Within 30 days after the effective date of this AD: Revise the ALS of the Instructions for Continued Airworthiness of the BAE Systems (Operations) Limited J41 AMM to include the life limits of the components listed in Chapter 05-10-10, Airworthiness Limitations—Description and Operation Section, Revision 23, dated February 15, 2005, of the AMM. This may be accomplished by inserting a copy into the ALS of the Instructions for Continued Airworthiness. Thereafter, except as provided in paragraph (m) of this AD, no alternative replacement times may be approved for any affected component. Once this AMM revision is included, the AMM revision required by paragraph (i) of this AD must be removed from the AMM.

Alternative Methods of Compliance (AMOCs)

(m) The Manager, International Branch, ANM-116, has the authority to approve AMOCs for this AD, if requested in accordance with the procedures found in 14 CFR 39.19.

Related Information

(n) British airworthiness directive G-2005-0005, dated February 3, 2005, also addresses the subject of this AD.

Material Incorporated by Reference

(o) Unless otherwise specified in this AD, the actions shall be done in accordance with the service information listed in Table 1 of this AD.

Table 1.—Material Incorporated by Reference
Service Information | Revision level | Date
BAE Systems (Operations) Limited J41 Airplane Maintenance Manual | Revision 23 | February 15, 2005.
BAE Systems (Operations) Limited Service Bulletin J41-05-001 | Revision 2 | March 15, 2002.
BAE Systems (Operations) Limited Service Bulletin J41-05-001 | Revision 3 | January 9, 2004.
BAE Systems (Operations) Limited Service Bulletin J41-32-078 | Original | April 12, 2002.

(1) The Director of the Federal Register approves the incorporation by reference of Chapter 05-10-10 of the BAE Systems (Operations) Limited J41 Airplane Maintenance Manual, Revision 23, dated February 15, 2005, in accordance with 5 U.S.C. 552(a) and 1 CFR part 51.

(2) On August 3, 2004 (69 FR 38816, June 29, 2004), the Director of the Federal Register approved the incorporation by reference of BAE Systems (Operations) Limited Service Bulletin J41-05-001, Revision 2, dated March 15, 2002; BAE Systems (Operations) Limited Service Bulletin J41-05-001, Revision 3, dated January 9, 2004; and BAE Systems (Operations) Limited Service Bulletin J41-32-078, dated April 12, 2002.

(3) To get copies of the service information, contact British Aerospace Regional Aircraft American Support, 13850 Mclearen Road, Herndon, Virginia 20171. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 9, 2005.
Kalene C. Yanamura,
Acting Manager, Transport Airplane Directorate, Aircraft Certification Service.

[FR Doc. 05-18519 Filed 9-20-05; 8:45 am]

BILLING CODE 4910-13-P